ENVIRONMENTAL PROTECTION AGENCY

40 CFR Part 52

[EPA-R09-OAR-2024-0600; FRL-12508-03-R9]

Air Plan Revisions; Arizona; Arizona Department of Environmental Quality; Reopening of Comment Period

AGENCY: Environmental Protection Agency (EPA).

ACTION: Proposed rule; reopening of comment period.

SUMMARY: The Environmental Protection Agency (EPA) is reopening the comment period for a proposed rule published January 17, 2025. The comment period end date for the proposed rule was February 18, 2025. In response to commenter request, the EPA is now reopening the comment period for the proposed rule until April 21, 2025. All comments received on or before April 21, 2025, will be entered into the public record and considered by EPA before taking final action on the proposed rule. Comments submitted between the close of the original comment period and the reopening of this comment period will be accepted and considered.

DATES: The comment period for the proposed rule published on January 17, 2025, at 90 FR 5790, is reopened. Comments must be received on or before April 21, 2025.

ADDRESSES: Submit your comments, identified by Docket ID No. EPA-R09-OAR-2024-0600 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact one of the people identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: For general inquiries and inquiries related to the Arizona Administrative Code: Christine Vineyard, EPA Region IX, 75 Hawthorne St., San Francisco, CA 94105. By phone: (415) 947-4125; email: vineyard.christine@epa.gov. For inquiries related to the Arizona Revised Statutes: Alina Batool, EPA Region IX, 75 Hawthorne St., San Francisco, CA 94105. By phone (415) 972-3345; email at batool.alina@epa.gov.

SUPPLEMENTARY INFORMATION: On January 17, 2025 (90 FR 5790), the EPA published the proposed rule “Air Plan Revision; Arizona; Arizona Department of Environmental Quality” in the Federal Register. The comment period end date for the proposed rule, as published, was February 18, 2025, which established a 30-day public comment period. In response to commenter request, the EPA is now reopening the comment period for the proposed rule to April 21, 2025. Comments must be received on or before April 21, 2025. Comments previously submitted need not be resubmitted as they are already incorporated into the public record and will be considered in the final action as appropriate.

Dated: February 25, 2025.
Matthew Lakin,
Director, Air and Radiation Division, Region IX.

[FR Doc. 2025-04039 Filed 3-17-25; 8:45 am]

BILLING CODE 6560-50-P